DEPARTMENT OF JUSTICE

Office of Justice Programs

Agency Information Collection Activities: Proposed Collection; Comments Requested

ACTION: 30-Day notice of information collection under review: Extension of a currently approved collection community gun violence prosecution program.

The Department of Justice (DOJ), Office of Justice Programs, (OJP) has submitted the following information collection request to the Office of Management and Budget (OMB) for review and approval in accordance with the Paperwork Reduction Act of 1995. The proposed information collection is published to obtain comments from the public and affected agencies. This proposed information collection was previously published in the Federal Register Volume 66, Number 129, pages 35461-35462 on July 5, 2001, allowing for a 60 day comment period.

The purpose of this notice is to allow for an additional 30 days for public comment until November 13, 2001. This process is conducted in accordance with 5 CFR 1320.10. Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-7285.

Written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a Currently Approved Collection.

(2) Title of the Form/Collection: Community Gun Violence Prosecution Program.

(3) Agency form number, if any, and the applicable component of the Department sponsoring the collection: None. Bureau of Justice Assistance, Office of Justice Programs, United States Department of Justice.

(4) Affected public who will be as or required to respond, as well as a brief abstract: Primary: State local or Tribal Government. Other: None. The Community Gun Violence Prosecution Program was authorized under Public Law 106-553, 114 Stat. 2762, App.-155 (2000) to provide funding directly to chief local or Tribal Government. Other: None. The Community Gun Violence Prosecution Program was authorized under Public Law 106-553, 114 Stat. 2762, App.-155 (2000) to provide funding directly to chief prosecutors (state, local and tribal) to hire assistant prosecutors who will focus their attention on the prosecution of cases involving violent crimes committed with guns and other violations of gun statutes involving drug trafficking and gang-related crimes in high firearms-related violence areas.

(5) An estimate of the total number of respondents and the amount of time estimated for an average respondent to respond/reply: The time burden of the estimated 1000 respondents to complete the application on-line is 4-hours per application.

(6) An estimate of the total public burden (in hours) associated with the collection: The total annual hour burden to complete applications for the Community Gun Violence Prosecution Program is 4000 annual burden hours.

If additional information is required contact: Brenda E. Dyer, Department Deputy Clearance Officer, Information Management and Security Staff, Justice Management Division, United States Department of Justice, 601 D Street NW., Patrick Henry Building, Suite 1600, NW., Washington, DC 20530.

Dated: October 4, 2001.
Brenda E. Dyer,
Department Clearance Officer, United States Department of Justice.

[FR Doc. 01-25488 Filed 10-10-01; 8:45 am]

BILLING CODE 4410-18-M